ENVIRONMENTAL PROTECTION AGENCY

[ER-FRL-9049-6]

Environmental Impact Statements; Notice of Availability

Weekly receipt of Environmental Impact Statements filed February 17, 2020, 10 a.m. EST through February 24, 2020, 10 a.m. EST pursuant to 40 CFR 1506.9.

Responsible Agency: Office of Federal Activities, General Information 202-564-5632 or https://www.epa.gov/ nepa/.

Section 309(a) of the Clean Air Act requires that EPA make public its comments on EISs issued by other Federal agencies. EPA's comment letters on EISs are available at: https://cdxnodengn.epa.gov/cdx-enepa-public/action/eis/search.

EIS No. 20200050, Final, BLM, USFS, ID, Proposed East Smoky Panel Mine Project at Smoky Canyon Mine, Review Period Ends: 04/28/2020, Contact: Kyle Free 208-478-6352

EIS No. 20200051, Final, USAF, WI, United States Air Force F-35A Operational Beddown Air National Guard, Review Period Ends: 03/30/2020, Contact: Ramon Ortiz 240-612-7042

EIS No. 20200052, Draft, BR, BPA, USACE, OR, Columbia River System Operations,Comment Period Ends: 04/13/2020, Contact: Rebecca Weiss 800-290-5033

EIS No. 20200053, Final Supplement, BR, CA, Final Supplement to the Final Environmental Impact Statement/Environmental Impact Report for Los Vaqueros Reservoir Expansion, Contra Costa County, California, Review Period Ends: 03/30/2020, Contact: Jamie LeFevre 916-802-4880

EIS No. 20200054, Draft, BIA, BLM, NM, Farmington Mancos-Gallup Resource Management Plan Amendment and Environmental Impact Statement, Comment Period Ends: 05/28/2020, Contact: Jillian Aragon 505-564-7722

EIS No. 20200055, Draft, CHSRA, CA, California High-Speed Rail: Bakersfield to Palmdale Section Draft Environmental Impact Report/Environmental Impact Statement, Comment Period Ends: 04/13/2020, Contact: Dan McKell 916-501-8320

EIS No. 20200056, Final, USACE, CT, New Haven Harbor Connecticut, Navigation Improvement Project, Final Integrated Feasibility Report and Environmental Impact Statement, Review Period Ends: 03/30/2020, Contact: Todd Randall 978-318-8518

EIS No. 20200057, Final, FHWA, NH, I-93 Exit 4A, Contact: Jamison S. Sikora 603-410-4870, Pursuant to 23 U.S.C. 139(n)(2), FHWA has issued a single FEIS and ROD. Therefore, the 30-day wait/review period under NEPA does not apply to this action.

Dated: February 25, 2020.
Cindy S. Barger,
Director, NEPA Compliance Division, Office of Federal Activities.

[FR Doc. 2020-04107 Filed 2-27-20; 8:45 am]

BILLING CODE 6560-50-P